DEPARTMENT OF TRANSPORTATION

Federal Aviation Administration

14 CFR Part 39

[Docket No. 2003-CE-52-AD; Amendment 39-13753; AD 2004-15-19]

RIN 2120-AA64

Airworthiness Directives; The New Piper Aircraft, Inc. Model PA-46-500TP Airplanes

AGENCY: Federal Aviation Administration (FAA), DOT.

ACTION: Final rule.

SUMMARY: The FAA adopts a new airworthiness directive (AD) for certain the New Piper Aircraft, Inc. (Piper) Model PA-46-500TP airplanes. This AD requires you to inspect (one-time) for the existence of any protective cover over the percussion caps or silicon tube installed over the end of the trigger mechanism pin of the oxygen generators, and remove any protective cover or silicon tube found. This AD is the result of reports of the above conditions found on the affected airplanes. We are issuing this AD to detect and remove any protective cover over the percussion cap, or any silicon tube over the end of the trigger mechanism pin, which could result in failure of the emergency oxygen system. This failure could lead to the crew and passengers not being able to get oxygen in an emergency situation.

DATES: This AD becomes effective on September 13, 2004.

As of September 13, 2004, the Director of the Federal Register approved the incorporation by reference of certain publications listed in the regulation.

ADDRESSES: You may get the service information identified in this AD from The New Piper Aircraft, Inc., Customer Services, 2926 Piper Drive, Vero Beach, Florida 32960; telephone: (772) 567-4361; facsimile: (772) 978-6584.

You may view the AD docket at FAA, Central Region, Office of the Regional Counsel, Attention: Rules Docket No. 2003-CE-52-AD, 901 Locust, Room 506, Kansas City, Missouri 64106. Office hours are 8 a.m. to 4 p.m., Monday through Friday, except Federal holidays.

FOR FURTHER INFORMATION CONTACT: Hector Hernandez, Aerospace Engineer, FAA, Atlanta Aircraft Certification Office, One Crown Center, 1895 Phoenix Boulevard, Suite 450, Atlanta, Georgia 30349; telephone: (770) 703-6069; facsimile: (770) 703-6097.

SUPPLEMENTARY INFORMATION:

Discussion

What events have caused this AD? The FAA has received several reports of the protective cover installed over the percussion cap on the oxygen generator on the Models PA-46-310P, PA-46-350P and PA-46-500TP airplanes. Also, a silicon tube may exist over the end of the trigger mechanism pin. Any protective cover installed over the percussion cap, or any silicon tube installed over the trigger, on the oxygen generator renders the emergency oxygen system inoperative.

The affected models in the service bulletin referenced in this AD include the Models PA-46-310P and PA-46-350P airplanes. However, these models are certificated at a lower service ceiling than the Model PA-46-500TP airplane. Since Piper has demonstrated an emergency descent to a lower altitude with no oxygen to the pilot, neither Model PA-46-310P nor PA-46-350P airplanes are affected by the identified condition.

What is the potential impact if FAA took no action? Any protective cover on the percussion cap or silicon tube installed over the end of the trigger mechanism pin could result in failure of the emergency oxygen system. This failure could lead to the crew or passengers not being able to get oxygen in an emergency situation.

Has FAA taken any action to this point? We issued a proposal to amend part 39 of the Federal Aviation Regulations (14 CFR part 39) to include an AD that would apply to certain Piper Model PA-46-500TP airplanes. This proposal was published in the Federal Register as a notice of proposed rulemaking (NPRM) on March 31, 2004 (69 FR 16836). The NPRM proposed to require you to inspect (one-time) for the existence of any protective cover over the percussion caps or silicon tube installed over the end of the trigger mechanism pin of the oxygen generators, and remove any protective cover or silicon tube found.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 135 airplanes in the U.S. registry.

What is the cost impact of this AD on owners/operators of the affected airplanes? We estimate the following costs to do this inspection (and removal of any protective cover on the percussion cap or any silicon tube installed over the end of the trigger mechanism pin):

Labor cost | Parts cost | Total cost per airplane | Total cost on U.S. operators
1 workhour × $65 per hour = $65 | No cost for parts | $65 | 135 × $65 = $8,775.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-52-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-15-19 The New Piper Aircraft, Inc.: Amendment 39-13753; Docket No. 2003-CE-52-AD.

When Does This AD Become Effective?

(a) This AD becomes effective on September 13, 2004.

What Other ADs Are Affected by This Action?

(b) None.

What Airplanes Are Affected by This AD?

(c) This AD affects Model PA-46-500TP airplanes, serial numbers 4697001 through 4697163, that are certificated in any category.

What Is the Unsafe Condition Presented in This AD?

(d) This AD is the result of reports of a protective cover installed over the percussion cap or a silicon tube installed over the end of the trigger mechanism pin, on the oxygen generator, rendering the emergency oxygen system inoperative. The actions specified in this AD are intended to detect and remove any protective cover over the percussion cap or any silicon tube over the end of the trigger mechanism pin, which could result in failure of the emergency oxygen system. This failure could lead to the crew or passengers not being able to get oxygen in an emergency situation.

What Must I Do To Address This Problem?

(e) To address this problem, you must do the following:

Actions | Compliance | Procedures
(1) Inspect: (i) the percussion cap of any oxygen generator (part number (P/N) 471-025) for the presence of any protective cover; and (ii) the end of the trigger mechanism of any oxygen generator (P/N 471-025) for the presence of any silicon tube. | Within the next 50 hours time-in-service after September 13, 2004 (the effective date of this AD) or within the next 30 calendar days after September 13, 2004 (the effective date of this AD), whichever occurs first, unless already done. | Follow the INSTRUCTIONS paragraph in The New Piper Aircraft, Inc. Service Bulletin No. 1140, dated September 16, 2003, and the applicable airplane maintenance manual.
(2) If during the inspections required by paragraphs (e)(1)(i) and (e)(1)(ii) of this AD, you find any protective cover over the percussion cap or any silicon tube over the end of the trigger mechanism, remove any protective cover or silicon tube. | Before further flight after the inspection required in paragraph (e)(1) of this AD, unless already done. | Follow the INSTRUCTIONS paragraph in The New Piper Aircraft, Inc. Service Bulletin No. 1140, dated September 16, 2003, and the applicable airplane maintenance manual.
(3) Do not operate the airplane after installation of any oxygen generator (P/N 471-025) referenced in this AD unless any protective cover of the percussion cap or any silicon tube over the end of the trigger mechanism has been removed. | As of September 13, 2004 (the effective date of this AD). | Not applicable.

Note 1: Standard procedure is to remove the protective cover after installation. Refer to the applicable airplane maintenance manual for specific procedures for removing any protective cover of the percussion cap or any silicon tube over the end of the trigger mechanism.

Note 2: The affected models in the service bulletin referenced in this AD include the Models PA-46-310P and PA-46-350P airplanes. However, these models are certificated at a lower service ceiling than the Model PA-46-500TP airplane. Since Piper has demonstrated an emergency descent to a lower altitude with no oxygen to the pilot, neither Model PA-46-310P nor PA-46-350P airplanes are affected by the identified condition.

May I Request an Alternative Method of Compliance?

(f) You may request a different method of compliance or a different compliance time for this AD by following the procedures in 14 CFR 39.19. Unless FAA authorizes otherwise, send your request to your principal inspector. The principal inspector may add comments and will send your request to the Manager, Atlanta Aircraft Certification Office (ACO), FAA. For information on any already approved alternative methods of compliance, contact Hector Hernandez, Aerospace Engineer, FAA, Atlanta ACO, One Crown Center, 1895 Phoenix Boulevard, Suite 450, Atlanta, Georgia 30349; telephone: (770) 703-6069; facsimile: (770) 703-6097.

Does This AD Incorporate Any Material by Reference?

(g) You must do the actions required by this AD following the instructions in The New Piper Aircraft, Inc. Service Bulletin No. 1140, dated September 16, 2003. The Director of the Federal Register approved the incorporation by reference of this service bulletin in accordance with 5 U.S.C. 552(a) and 1 CFR part 51. You may get a copy from The New Piper Aircraft, Inc., Customer Services, 2926 Piper Drive, Vero Beach, Florida 32960; telephone: (772) 567-4361; facsimile: (772) 978-6584. You may review copies at FAA, Central Region, Office of the Regional Counsel, 901 Locust, Room 506, Kansas City, Missouri 64106; or at the National Archives and Records Administration (NARA). For information on the availability of this material at NARA, call (202) 741-6030, or go to: http://www.archives.gov/federal_register/code_of_federal_regulations/ibr_locations.html.

Issued in Kansas City, Missouri, on July 22, 2004.
Dorenda D. Baker,
Manager, Small Airplane Directorate, Aircraft Certification Service.

[FR Doc. 04-17218 Filed 7-29-04; 8:45 am]

BILLING CODE 4910-13-P